FEDERAL MARITIME COMMISSION

[DOCKET NO. 22-15]

Pro Transport Charleston, Inc., Complainant v. Allround Midwest Forwarding, Inc., Respondent; Notice of Filing of Complaint and Assignment

Served: June 13, 2022.

Notice is given that a complaint has been filed with the Federal Maritime Commission (Commission) by Pro Transport Charleston, Inc. (Pro Transport), hereinafter “Complainant”, against Allround Midwest Forwarding, Inc. (Allround), hereinafter “Respondent”. Complainant alleges that Respondent is an ocean transportation intermediary (OTI) organized as a corporation under the laws of Delaware with Cleveland, OH as its principal place of business.

Complainant alleges that Respondent violated 46 U.S.C. 40902 for its failure to maintain a surety bond. The full text of the complaint can be found in the Commission's Electronic Reading Room at https://www2.fmc.gov/readingroom/proceeding/22-15/.

This proceeding has been assigned to Office of Administrative Law Judges. The initial decision of the presiding officer in this proceeding shall be issued by June 13, 2023, and the final decision of the Commission shall be issued by January 9, 2024.

William Cody,
Secretary.

[FR Doc. 2022-13372 Filed 6-22-22; 8:45 am]

BILLING CODE 6730-02-P